SECURITIES AND EXCHANGE COMMISSION

[Release No. 34-63208A; File No. SR-DTC-2010-13]

Self-Regulatory Organizations; The Depository Trust Company; Notice of Filing and Immediate Effectiveness of Proposed Rule Change To Implement a Disincentive Fee Associated With the Deposit Automation Management System

November 5, 2010.

Correction

In FR Document No. 2010-27856 beginning on page 68013 for Thursday, November 4, 2010, the paragraph under which The Depository Trust Company (“DTC”) filed the proposed rule change was incorrectly identified as section 19(b)(3)(A)(iii) of the Securities Exchange Act of 1934 (“Exchange Act”) and Rule 19b-4(f)(3) thereunder. The correct paragraph under which DTC filed the proposed rule change is section 19(b)(3)(A)(ii) of the Exchange Act and Rule 19b-4(f)(2).

Florence E. Harmon,
Deputy Secretary.

[FR Doc. 2010-28451 Filed 11-10-10; 8:45 am]

BILLING CODE 8011-01-P